DEPARTMENT OF ENERGY

Federal Energy Regulatory Commission

Combined Notice of Filings #1

Take notice that the Commission received the following electric rate filings:

Docket Numbers: ER18-2358-000.

Applicants: GridLiance High Plains LLC, Southwest Power Pool, Inc.

Description: Refund Report: Southwest Power Pool, Inc. submits tariff filing per 35.19a(b): Refund Report in Response to Order issued in ER18-2358 to be effective N/A.

Filed Date: 11/21/22.

Accession Number: 20221121-5044.

Comment Date: 5 p.m. ET 12/7/22.

Docket Numbers: ER22-1608-002.

Applicants: Hallador Power Company, LLC.

Description: Compliance filing: Compliance to 3 to be effective 10/21/2022.

Filed Date: 11/18/22.

Accession Number: 20221118-5179.

Comment Date: 5 p.m. ET 12/7/22.

Docket Numbers: ER22-1623-001.

Applicants: Hallador Power Company, LLC.

Description: Compliance filing: Compliance to 2 to be effective 10/21/2022.

Filed Date: 11/18/22.

Accession Number: 20221118-5206.

Comment Date: 5 p.m. ET 12/7/22.

Docket Numbers: ER23-54-001.

Applicants: PJM Interconnection, L.L.C.

Description: Tariff Amendment: Amending Cancellation of ICSA, Service Agreement No. 3477; Queue Nos. R11/Z2-109 to be effective 2/10/2020.

Filed Date: 11/21/22.

Accession Number: 20221121-5021.

Comment Date: 5 p.m. ET 12/7/22.

Docket Numbers: ER23-113-000.

Applicants: AL Solar D, LLC.

Description: Supplement to October 17, 2022 AL Solar D, LLC tariff filing.

Filed Date: 11/16/22.

Accession Number: 20221116-5187.

Comment Date: 5 p.m. ET 11/23/22.

Docket Numbers: ER23-466-000.

Applicants: GRP TE Lessee, LLC.

Description: Baseline eTariff Filing: Baseline new to be effective 11/19/2022.

Filed Date: 11/18/22.

Accession Number: 20221118-5193.

Comment Date: 5 p.m. ET 12/7/22.

Docket Numbers: ER23-467-000.

Applicants: PJM Interconnection, L.L.C.

Description: § 205(d) Rate Filing: Original ISA and ICSA, SA Nos. 6695 6696; Queue Nos. AE2-093/AF1-015 to be effective 10/20/2022.

Filed Date: 11/21/22.

Accession Number: 20221121-5027.

Comment Date: 5 p.m. ET 12/7/22.

Docket Numbers: ER23-468-000.

Applicants: PJM Interconnection, L.L.C.

Description: § 205(d) Rate Filing: Original ISA, Service Agreement No. 6698; Queue No. AE2-110 to be effective 10/20/2022.

Filed Date: 11/21/22.

Accession Number: 20221121-5039.

Comment Date: 5 p.m. ET 12/7/22.

Docket Numbers: ER23-469-000.

Applicants: NorthWestern Corporation.

Description: Compliance filing: Order No. 864 2nd Compliance Filing (Montana OATT) to be effective 1/27/2020.

Filed Date: 11/21/22.

Accession Number: 20221121-5075.

Comment Date: 5 p.m. ET 12/12/22.

Docket Numbers: ER23-470-000.

Applicants: Duke Energy Ohio, Inc., Duke Energy Kentucky, Inc., PJM Interconnection, L.L.C.

Description: § 205(d) Rate Filing: Duke Energy Ohio, Inc. submits tariff filing per 35.13(a)(2)(iii): DEOK submits revisions to OATT Attachment H-22A to be effective 5/15/2022.

Filed Date: 11/21/22.

Accession Number: 20221121-5093.

Comment Date: 5 p.m. ET 12/12/22.

Docket Numbers: ER23-471-000.

Applicants: Alabama Power Company, Georgia Power Company, Mississippi Power Company.

Description: § 205(d) Rate Filing: Alabama Power Company submits tariff filing per 35.13(a)(2)(iii): Washington County Solar LGIA Amendment Filing to be effective 11/3/2022.

Filed Date: 11/21/22.

Accession Number: 20221121-5102.

Comment Date: 5 p.m. ET 12/12/22.

Docket Numbers: ER23-472-000.

Applicants: Alabama Power Company, Georgia Power Company, Mississippi Power Company.

Description: Alabama Power Company submits tariff filing per 35.13(a)(2)(iii): Decatur Solar Energy Center LGIA Amendment Filing to be effective 11/3/2022.

Filed Date: 11/21/22.

Accession Number: 20221121-5107.

Comment Date: 5 p.m. ET 12/12/22.

Docket Numbers: ER23-473-000.

Applicants: NextEra Blythe Solar Energy Center, LLC.

Description: § 205(d) Rate Filing: NextEra Blythe Solar Energy Ctr, LLC 1st Amendment to A&R SFA to be effective 11/22/2022.

Filed Date: 11/21/22.

Accession Number: 20221121-5111.

Comment Date: 5 p.m. ET 12/12/22.

Take notice that the Commission received the following electric securities filings:

Docket Numbers: ES23-7-000.

Applicants: Union Electric Company.

Description: Application Under Section 204 of the Federal Power Act for Authorization to Issue Securities of Union Electric Company.

Filed Date: 11/18/22.

Accession Number: 20221118-5272.

Comment Date: 5 p.m. ET 12/9/22.

Docket Numbers: ES23-8-000.

Applicants: Ameren Illinois Company.

Description: Application Under Section 204 of the Federal Power Act for Authorization to Issue Securities of Ameren Illinois Company.

Filed Date: 11/18/22.

Accession Number: 20221118-5273.

Comment Date: 5 p.m. ET 12/9/22.

Docket Numbers: ES23-9-000.

Applicants: Ameren Transmission Company of Illinois.

Description: Application Under Section 204 of the Federal Power Act for Authorization to Issue Securities of Ameren Transmission Company of Illinois.

Filed Date: 11/18/22.

Accession Number: 20221118-5275.

Comment Date: 5 p.m. ET 12/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2022.
Debbie-Anne A. Reese,
Deputy Secretary.

[FR Doc. 2022-25862 Filed 11-25-22; 8:45 am]

BILLING CODE 6717-01-P